SMALL BUSINESS ADMINISTRATION

Federal Regulatory Enforcement Fairness Hearing; Region X Regulatory Fairness Board

AGENCY: U.S. Small Business Administration (SBA).

ACTION: Notice of open meeting of the Regional (Region X) Small Business Regulatory Fairness Board.

SUMMARY: The (SBA) Office of the National Ombudsman is issuing this notice to announce the location, date and time of the Regional Small Business Regulatory Fairness hearing. This meeting is open to the public.

DATES: The hearing will be held on Thursday, June 6, 2013 from 9:00 a.m. to 11:30 a.m. (PST).

ADDRESSES: The meeting will be at The Rainer Club, 820—4th Avenue, Seattle, WA 98104-1653.

SUPPLEMENTARY INFORMATION: Pursuant to the Small Business Regulatory Enforcement Fairness Act (Pub. L. 104-121), Sec. 222, SBA announces the meeting for Business Organizations, Trade Associations, Chambers of Commerce and related organizations serving small business concerns to report experiences regarding unfair or excessive Federal regulatory enforcement issues affecting their members.

FOR FURTHER INFORMATION CONTACT: The meeting is open to the public; however, advance notice of attendance is requested. Anyone wishing to attend and/or make a presentation to the Region X Regulatory Fairness Board must contact José Méndez by May 30, 2013 in writing, by fax or email in order to be placed on the agenda. José Méndez, Case Management Specialist, SBA, Headquarters, 409 3rd Street SW., Suite 7125, Washington, DC, phone (202) 205-6178 and fax (202) 481-2707, email: Jose.mendez@sba.gov. Additionally, if you need accommodations because of a disability or require additional information, please contact José Méndez as well.

For more information on the Office of the National Ombudsman, see our Web site at www.sba.gov/ombudsman.

Dated: May 16, 2013.
Dan Jones,
SBA Committee Management Officer.

[FR Doc. 2013-12106 Filed 5-21-13; 8:45 am]

BILLING CODE 8025-01-P